DEPARTMENT OF ENERGY

Federal Energy Regulatory Commission

Combined Notice of Filings #2

Take notice that the Commission received the following electric rate filings:

Docket Numbers: ER11-4269-014; ER14-1288-002.

Applicants: Liberty Utilities (Granite State Electric) Corp., Algonquin Tinker Gen Co.

Description: Triennial Market Power Analysis for Northeast Region of Algonquin Tinker Gen. Co., et al.

Filed Date: 12/22/25.

Accession Number: 20251222-5403.

Comment Date: 5 p.m. ET 2/20/26.

Docket Numbers: ER16-2412-009.

Applicants: Luning Energy LLC.

Description: Triennial Market Power Analysis for Northwest Region of Luning Energy LLC.

Filed Date: 12/22/25.

Accession Number: 20251222-5383.

Comment Date: 5 p.m. ET 2/20/26.

Docket Numbers: ER21-964-003.

Applicants: Microsoft Energy LLC.

Description: Triennial Market Power Analysis for Northwest Region of Microsoft Energy LLC.

Filed Date: 12/23/25.

Accession Number: 20251223-5398.

Comment Date: 5 p.m. ET 2/23/26.

Docket Numbers: ER24-3089-003.

Applicants: PJM Interconnection, L.L.C.

Description: Tariff Amendment: Amendment of WMPA SA No. 7373; Project Identifier No. AG1-558 to be effective 12/31/9998.

Filed Date: 12/29/25.

Accession Number: 20251229-5310.

Comment Date: 5 p.m. ET 1/20/26.

Docket Numbers: ER26-344-001.

Applicants: Wisconsin Electric Power Company.

Description: Compliance filing: Request to Defer Action on Order No. 898 Compliance Filing to be effective 12/31/9998.

Filed Date: 12/29/25.

Accession Number: 20251229-5371.

Comment Date: 5 p.m. ET 1/20/26.

Docket Numbers: ER26-637-002.

Applicants: Pineview Solar, LLC.

Description: Tariff Amendment: Supplemental Response to be effective 1/14/2026.

Filed Date: 12/29/25.

Accession Number: 20251229-5400.

Comment Date: 5 p.m. ET 1/20/26.

Docket Numbers: ER26-881-000.

Applicants: Northern States Power Company, a Minnesota corporation.

Description: § 205(d) Rate Filing: 2025-12-xx Brookings2-OMA-Appdx I-537 to be effective 11/21/2025.

Filed Date: 12/17/25.

Accession Number: 20251217-5369.

Comment Date: 5 p.m. ET 1/7/26.

Docket Numbers: ER26-884-000.

Applicants: Derby Fuel Cell, LLC.

Description: Petition of Derby Fuel Cell, LLC For Limited Waiver and Request for Expedited Consideration.

Filed Date: 12/22/25.

Accession Number: 20251222-5364.

Comment Date: 5 p.m. ET 1/12/26.

Docket Numbers: ER26-885-000

Applicants: New York State Reliability Council, L.L.C.

Description: New York State Reliability Council, L.L.C. submits notice of revised Installed Capacity Requirement for the New York Control Area for the period beginning on 05/01/2026 and ending on 04/30/2027.

Filed Date: 12/23/25.

Accession Number: 20251223-5369.

Comment Date: 5 p.m. ET 1/13/26.

Docket Numbers: ER26-886-000.

Applicants: Entergy Arkansas, LLC.

Description: § 205(d) Rate Filing: EAL-SWPA Marketing Agreement to be effective 1/1/2026.

Filed Date: 12/29/25.

Accession Number: 20251229-5161.

Comment Date: 5 p.m. ET 1/20/26.

Docket Numbers: ER26-887-000.

Applicants: Entergy Arkansas, LLC.

Description: § 205(d) Rate Filing: Nimbus Wind Farm, LLC LBA Agreement to be effective 1/1/2026.

Filed Date: 12/29/25.

Accession Number: 20251229-5168.

Comment Date: 5 p.m. ET 1/20/26.

Docket Numbers: ER26-888-000.

Applicants: Entergy Arkansas, LLC.

Description: § 205(d) Rate Filing: Cherry Valley PV I, LLC LBA Agreement to be effective 1/1/2026.

Filed Date: 12/29/25.

Accession Number: 20251229-5186.

Comment Date: 5 p.m. ET 1/20/26.

Docket Numbers: ER26-889-000.

Applicants: Portland General Electric Company.

Description: § 205(d) Rate Filing: MT Intertie Concurrence Filing to be effective 12/10/2025.

Filed Date: 12/29/25.

Accession Number: 20251229-5220.

Comment Date: 5 p.m. ET 1/20/26.

Docket Numbers: ER26-890-000.

Applicants: Entergy Arkansas, LLC.

Description: § 205(d) Rate Filing: Redfield PV I, LLC LBA Agreement to be effective 1/1/2026.

Filed Date: 12/29/25.

Accession Number: 20251229-5230.

Comment Date: 5 p.m. ET 1/20/26.

Docket Numbers: ER26-891-000.

Applicants: Entergy Louisiana, LLC.

Description: § 205(d) Rate Filing: ELL-Mondu Solar, LLC LBA Agreement to be effective 1/1/2026.

Filed Date: 12/29/25.

Accession Number: 20251229-5240.

Comment Date: 5 p.m. ET 1/20/26.

Docket Numbers: ER26-892-000.

Applicants: PJM Interconnection, L.L.C.

Description: § 205(d) Rate Filing: Amendment to ISA, SA No. 4437; Queue No. T127 to be effective 2/28/2026.

Filed Date: 12/29/25.

Accession Number: 20251229-5304.

Comment Date: 5 p.m. ET 1/20/26.

Docket Numbers: ER26-893-000.

Applicants: New York Independent System Operator, Inc., New York Transco, LLC.

Description: § 205(d) Rate Filing: New York Independent System Operator, Inc. submits tariff filing per 35.13(a)(2)(iii: NY Transco 205: Depreciation Rates Update to be effective 6/1/2026.

Filed Date: 12/29/25.

Accession Number: 20251229-5313.

Comment Date: 5 p.m. ET 1/20/26.

Docket Numbers: ER26-894-000.

Applicants: MATL LLP.

Description: § 205(d) Rate Filing: Glacier Wind 1 &2 LGIA Filing to be effective 12/23/2025.

Filed Date: 12/29/25.

Accession Number: 20251229-5314.

Comment Date: 5 p.m. ET 1/20/26.

Docket Numbers: ER26-895-000.

Applicants: Aelix LLC.

Description: Initial Rate Filing: Initial Market-Based Rate Authorization to be effective 12/29/2025.

Filed Date: 12/29/25.

Accession Number: 20251229-5339.

Comment Date: 5 p.m. ET 1/20/26.

Docket Numbers: ER26-896-000.

Applicants: Tanner Street Generation, LLC.

Description: Tariff Amendment: Notice of Cancellation of Market-Based Rate Tariff to be effective 12/31/2025.

Filed Date: 12/29/25.

Accession Number: 20251229-5345.

Comment Date: 5 p.m. ET 1/20/26.

Docket Numbers: ER26-897-000.

Applicants: Entergy Louisiana, LLC.

Description: § 205(d) Rate Filing: ELL-Cleco Power, LLC Richard Substation Operating Agreement to be effective 1/1/2026.

Filed Date: 12/29/25.

Accession Number: 20251229-5366.

Comment Date: 5 p.m. ET 1/20/26.

Docket Numbers: ER26-898-000.

Applicants: Twiggs County Solar, LLC.

Description: Initial Rate Filing: Shared Facilities Agreement and Request for Waivers to be effective 2/28/2026.

Filed Date: 12/29/25.

Accession Number: 20251229-5384.

Comment Date: 5 p.m. ET 1/20/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 29, 2025.
Carlos D. Clay,
Deputy Secretary.

[FR Doc. 2025-24159 Filed 12-31-25; 8:45 am]

BILLING CODE 6717-01-P